FEDERAL DEPOSIT INSURANCE CORPORATION

Designated Reserve Ratio for 2025

AGENCY: Federal Deposit Insurance Corporation.

ACTION: Notice of Designated Reserve Ratio for 2025.

SUMMARY: Pursuant to the Federal Deposit Insurance Act (FDI Act), the Board of Directors (Board) of the Federal Deposit Insurance Corporation (FDIC) designates that the Designated Reserve Ratio (DRR) for the Deposit Insurance Fund shall remain at 2 percent for 2025. The Board is publishing this notice as required by the FDI Act.

FOR FURTHER INFORMATION CONTACT: Ashley Mihalik, Associate Director, Financial Risk Management, Division of Insurance and Research, 202-898-3793, amihalik@fdic.gov; Daniel Hoople, Chief, Fund Analysis and Pricing Section, Division of Insurance and Research, 202-898-3835, dhoople@fdic.gov; or Kathryn Marks, Counsel, Legal Division, 202-898-3896, kmarks@fdic.gov.

SUPPLEMENTARY INFORMATION: Pursuant to the FDI Act, the Board designates that the DRR for the Deposit Insurance Fund shall remain at 2 percent for 2025. The Board is publishing this notice as required by section 7(b)(3)(A)(i) of the FDI Act (12 U.S.C. 1817(b)(3)(A)(i)). There is no need to amend 12 CFR 327.4(g), the section of the FDIC's regulations which sets forth the DRR, because the DRR for 2025 is the same as the current DRR.

Federal Deposit Insurance Corporation.
By order of the Board of Directors.
Dated at Washington, DC, on October 17, 2024.
James P. Sheesley,
Assistant Executive Secretary.

[FR Doc. 2024-24438 Filed 10-21-24; 8:45 am]

BILLING CODE 6714-01-P